DEPARTMENT OF HOUSING AND URBAN DEVELOPMENT

24 CFR Part 203

[Docket No. FR-5742-N-02]

RIN 2502-AJ23

Federal Housing Administration (FHA): Single Family Mortgage Insurance Maximum Time Period for Filing Insurance Claims, Curtailment of Interest and Disallowance of Operating Expenses Incurred Beyond Certain Established Timeframes; Partial Withdrawal

AGENCY: Office of the Assistant Secretary for Housing—Federal Housing Commissioner, HUD.

ACTION: Partial withdrawal of proposed rule.

SUMMARY: This document withdraws part of a proposed rule, published in the Federal Register on July 6, 2015, that proposed to establish a maximum time period within which an FHA-approved mortgagee must file a claim with FHA for insurance benefits, and to revise HUD's policies concerning the curtailment of interest and the disallowance of certain expenses incurred by a mortgagee as a result of the mortgagee's failure to timely initiate foreclosure or timely take such other action that is a prerequisite to submission of a claim for insurance. This withdrawal covers only the portion of the proposed rule that would have established the maximum time period within which an FHA-approved mortgagee must file a claim with FHA for insurance benefits.

DATES: As of October 16, 2015, HUD withdraws the proposed additions of §§ 203.317a and 203.372, and proposed revision to § 203.318, published Monday, July 6, 2015 (80 FR 38410).

FOR FURTHER INFORMATION CONTACT: Ivery Himes, Director, Office of Single Family Asset Management, Office of Housing, Department of Housing and Urban Development, 451 7th Street SW., Room 9172, Washington, DC 20410; telephone number 202-708-1672 (this is not a toll-free number). Persons with hearing or speech impairments may access this number by calling the Federal Relay Service at 800-877-8339 (this is a toll-free number).

SUPPLEMENTARY INFORMATION:

I. Background

On July 6, 2015, HUD published in the Federal Register a proposed rule that would have added § 203.372, establishing a maximum time period for filing a claim for insurance benefits, and § 203.317a, providing that the contract of insurance would be terminated if a mortgagee failed to file a claim within the maximum time period specified in § 203.372, to 24 CFR part 203. The proposed rule would have also revised § 203.318 to refer to termination of the insurance contract under new § 203.317a. Additionally, the proposed rule would amend § 203.402, and revise the title of § 203.474, related to proposals concerning the curtailment of interest and the disallowance of certain expenses incurred by a mortgagee as a result of the mortgagee's failure to timely initiate foreclosure or timely take such other action that is a prerequisite to submission of a claim for insurance.

In response to public comments expressing concern over the implementation of the proposed provisions regarding the maximum time period within which an FHA-approved mortgagee must file a claim with FHA for insurance benefits, HUD is withdrawing the proposed additions of §§ 203.317a and 203.372, and proposed revision to § 203.318. HUD will publish in the Federal Register any revised maximum time period for claim filing provisions in a proposed rule and solicit public comment on it.

List of Subjects in 24 CFR Part 203

Hawaiian Natives, Home improvement, Indians-lands, Loan programs-housing and community development, Mortgage insurance, Reporting and recordkeeping requirements, Solar energy.

Partial Withdrawal of Proposed Rule. For the reasons stated in the preamble and under the authority of 42 U.S.C. 3535(d), HUD withdraws the proposed additions of §§ 203.317a and 203.372, and proposed revision to § 203.318, in 24 CFR part 203.

Dated: October 7, 2015.
Edward L. Golding,
Principal Deputy Assistant Secretary for Housing.

[FR Doc. 2015-26379 Filed 10-15-15; 8:45 am]

BILLING CODE 4210-67-P